NUCLEAR REGULATORY COMMISSION

[Docket No. 40-6940]

Finding of No Significant Impact and Notice of Availability of the Environmental Assessment Addressing License Renewal, Cabot Corporation, Boyertown, PA

AGENCY: Nuclear Regulatory Commission.

ACTION: Notice of availability of Environmental Assessment and Finding of No Significant Impact.

FOR FURTHER INFORMATION CONTACT: Elaine Brummett, Fuel Cycle Facilities Branch, Division of Fuel Cycle Safety and Safeguards, Office of Nuclear Material Safety and Safeguards, U.S. Nuclear Regulatory Commission, Mail Stop T8-A33, Washington, DC 20555-0001, telephone (301) 415-6606 and e-mail esb@nrc.gov.

SUPPLEMENTARY INFORMATION:

I. Introduction

The U.S. Nuclear Regulatory Commission (NRC) is considering the issuance of an amendment for the renewal of Source Material License SMB-920 for the Cabot Corporation (through its subsidiary, Cabot Supermetals (CSM)) for continued operations. The facility uses ore containing source material (uranium and thorium) to produce tanalium and niobium at the Boyertown, Pennsylvania site. All the processes in the plant and most of the radiological procedures have remained unchanged, except for the detailed procedures for monitoring and analyzing radiological conditions. Also, Cabot has modified the radiation safety programs in order to strengthen and improve the levels of management and the employee involvement. The licensee's revised application for license renewal was received electronically on March 24, 2004, and the CSM transmittal letter was dated March 29, 2004. The original application was previously noticed in the Federal Register on June 5, 2002 (67 FR 38679), with an opportunity to provide written comments or to request a hearing.

II. Summary of the Environmental Assessment

The EA was prepared to evaluate the environmental impacts associated with continued operation of the Boyertown facility. In the conduct of its evaluation, the NRC considered the following: (1) The CSM revised application; (2) information contained in prior environmental evaluations of the facility; (3) information in the Cabot environmental monitoring reports; (4) information derived from the NRC site visits and inspections of the site; and (5) from communications with CSM, the Pennsylvania Department of Environmental Protection, the State Historic Preservation Office, and the U.S. Fish and Wildlife Service. In preparing the EA, the NRC evaluated the potential impacts to cultural resources, threatened and endangered species, ambient air quality, surface waters, and groundwater at the Boyertown site. Additionally, the NRC evaluated the potential impacts to members of the public from the plant activities, including the potential radiological impacts. The results of the staff's evaluation are documented in an EA which is available electronically for public inspection or from the Publicly Available Records (PARS) component of NRC's document system (ADAMS). The safety aspects of the Boyertown operations are discussed separately in a Safety Evaluation Report that will accompany the agency's final licensing action on CSM's request to renew Source Materials License SMB-920.

III. Finding of No Significant Impact

Pursuant to 10 CFR part 51, the NRC has prepared the EA, summarized above. The NRC staff has concluded that current operation and the proposed licensing action of continued operation of the Cabot facility will not have a significant impact on the environment. The proposed NRC approval of the action, when combined with known effects on resource areas at the site, is not anticipated to result in any cumulative impacts. Therefore, the NRC staff has concluded that there will be no significant environmental impacts on the quality of the human environment and, accordingly, the staff has determined that preparation of an Environmental Impact Statement is not warranted.

IV. Further Information

The EA for this proposed action, as well as the licensee's request, as revised, are available electronically for public inspection in the NRC's Public Document Room or from the Publicly Available Records (PARS) component of NRC's document system (ADAMS). ADAMS is accessible from the NRC Web site at http://www.nrc.gov/reading-rm/adams.html. The ADAMS Accession Numbers for the licensee's revised application is: ML040860628 and ML040860633, March 23, 2004 (Form 313 dated February 6, 2004), and ML040930203, March 29, 2004. The ADAMS Accession Number for the EA is: ML041030379, April 12, 2004. Most of the documents referenced in the EA are also available through ADAMS. Documents can also be viewed electronically on the public computers located at the NRC's Public Document Room, O1 F21, One White Flint North, 11555 Rockville Pike, Rockville, MD 20852.

The PDR reproduction contractor will copy documents for a fee. Persons who do not have access to ADAMS, should contact the NRC PDR Reference staff by telephone at 1 (800) 397-4209, or (301) 415-4737, or by e-mail to pdr@nrc.gov.

Dated in Rockville, Maryland, this 29th day of April, 2004.
For the Nuclear Regulatory Commission.
Elaine Brummett,
Project Manager, Fuel Cycle Facilities Branch, Division of Fuel Cycle Safety and Safeguards, Office of Nuclear Material Safety and Safeguards.

[FR Doc. E4-1035 Filed 5-6-04; 8:45 am]

BILLING CODE 7590-01-P